DEPARTMENT OF TRANSPORTATION

Federal Railroad Administration

[Docket Number FRA-2004-18895]

Petition for Waiver of Compliance

In accordance with part 211 of title 49 of the Code of Federal Regulations (CFR), this provides the public notice that by a document dated November 25, 2014, Wabtec Railway Electronics has petitioned the Federal Railroad Administration (FRA) for a waiver of compliance from certain provisions of the Federal railroad safety regulations contained at 49 CFR 232.409(d)—Inspection and testing of end-of-train devices. FRA assigned the petition Docket Number FRA-2004-18895.

Wabtec Railway Electronics (Wabtec) is submitting a request for a 5-year extension to the waiver previously granted to it in Docket Number FRA-2004-18895. Wabtec initially submitted its request for a waiver of compliance from 49 CFR 232.409(d) in July 2004, and the waiver was granted in May 2005. Subsequently, Wabtec applied for a 5-year extension to the original waiver in October 2009. The extension was granted in May 2010.

In its original request for waiver of compliance from 49 CFR 232.409(d) in July 2004, Wabtec stated that the advanced technology being used in the units includes transceivers with phase locked loop circuitry along with temperature and voltage controlled crystal oscillators to maintain spectral (signal) purity. This automatic calibration algorithm works by optimizing the voltage-controlled oscillators' control parameters to achieve minimum phase noise. It auto calibrates the power amplifier and power amplifier driver bias current every time the transmitter is powered. This automatic calibration feature is the heart of maintaining the radio's performance integrity.

Should the radio experience a component failure, the automated calibration routine will cycle continuously, effectively shut down the radio, and provide the appropriate “No Comm” display in the cab of the locomotive. Failure in the micro/power supply areas will also result in an inoperable radio, and the same “No Comm” message will be received in the locomotive cab. Therefore, there is no need to annually test and calibrate the new synthesized radio. Essentially, if the radio is transmitting, the signal is within the proper specifications.

In the most recent letter dated November 25, 2014, Wabtec stated that it still offers this radio (Wabtec TrainLink II) in certain new manufactured end-of-train/head-of-train (EOT/HOT) products today, although it has largely been replaced by a more modern radio design. However, there is a large fielded population in service in North America. Wabtec further stated that in order to meet the needs of customers, the company plans to continue to manufacture Wabtec digitally synthesized radios (Wabtec TrainLink series) for replacement use in HOT and EOT equipment, as well as limited use in new production deliveries.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2004-18895) and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by June 1, 2015 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov or interested parties may review DOT's complete Privacy Act Statement in the Federal Register published on April 11, 2000 (65 FR 19477).

Issued in Washington, DC, on April 11, 2015.
Ron Hynes,
Director of Technical Oversight.

[FR Doc. 2015-08937 Filed 4-16-15; 8:45 am]

BILLING CODE 4910-06-P